ENVIRONMENTAL PROTECTION AGENCY

[ER-FRL-8583-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 11, 2008 (73 FR 19833).

Draft EISs

EIS No. 20070526, ERP No. D-AFS-J65503-WY, Thunder Basin National Grassland Prairie Dog Management Strategy, Land and Resource Management Plan Amendment #3, Proposes to Implement a Site-Specific Strategy to Manage Black Trailed Prairie Dog, Douglas Ranger District, Medicine Bow-Routt National Forests and Thunder Basin National Grassland, Campbell, Converse, Niobrara and Weston Counties, WY.

Summary: EPA expressed environmental concerns about alternatives, impacts to the black-footed ferret and the use of lethal control of prairie dog colonies. EPA recommended development of a non-lethal management alternative. Rating EC2.

EIS No. 20080032, ERP No. D-AFS-J65505-C0, Durango Mountain Resort Improvement Plan, Special-Use-Permits, Implementation, San Juan National Forest, La Plata and San Juan Counties, CO.

Summary: EPA expressed environmental concerns about impacts to lynx habitat, wetlands and water quality. Rating EC2.

EIS No. 20080060, ERP No. D-AFS-J65511-SD, Upper Spring Creek Project, Proposes to Implementation Multiple Resource Management Actions, Mystic Ranger District, Black Hills National Forest, Pennington County, SD.

Summary: EPA expressed environmental concerns about project impacts to water quality and a lack of specificity regarding impacts to wetlands, and requested additional information on restoring water quality in Spring Creek, from its headwaters to Sheridan Lake, which is water quality impaired. Rating EC2.

EIS No. 20080106, ERP No. D-AFS-J39039-CO, Long Draw Reservoir Project, Re-Issue a Special-Use-Authorization to Water Supply and Storage to Allow the Continued Use of Long Draw Reservoir and Dam, Arapaho and Roosevelt National Forests and Pawnee National Grassland, Grand and Larimer Counties, CO.

Summary: EPA expressed environmental concerns about the availability of pure greenback cutthroat trout brood stock for restoration. Rating EC1.

EIS No. 20080113, ERP No. D-FRC-E03018-FL, Floridian Natural Gas Storage Project, Construction and Operation, Liquefied Natural Gas (LNG) Storage and Natural Gas Transmission Facilities, Martin County, FL.

Summary: EPA expressed environmental concern about water quality and noise and environmental justice issues. Rating EC1.

EIS No. 20080139, ERP No. D-FHW-F40443-MN, Trunk Highway 23 and U.S. Highway 71 Project, Construction of One or More Grade-Separated Bridge Crossings, Dovre Township, Northeast of Wilmar County, Kandiyohi, MN.

Summary: EPA expressed environmental concerns about wetland, noise, stormwater, and cumulative impacts. Rating EC2.

EIS No. 20080150, ERP No. D-NOA-E91023-00, Amendment 16 to the Fishery Management Plan for the Snapper Grouper Fishery, To End Overfishing of Gag and Vermillion Snapper, Implementation, South Atlantic Region.

Summary: While EPA has no objection to the proposed action, we requested clarification about the use of an interim management approach. Rating LO.

EIS No. 20070403, ERP No. DS-BLM-J65436-UT, Vernal Field Office Resource Management Plan, Updated Information, Managing Non-Wilderness Study Area (WSA) Lands with Wilderness Characteristics, Implementation, Vernal, UT.

Summary: EPA expressed environmental concerns about impacts to air quality and riparian areas, and recommended that the Final EIS include information assessing cumulative impacts. In addition, BLM should include information on the implementation of protective management prescriptions to mitigate for the above impacts. Rating EC2.

EIS No. 20080190, ERP No. DS-USA-A15000-00, Programmatic—Army Growth and Force Structure Realignment, Evaluation of Alternatives for Supporting the Growth, Realignment, and Transformation of the Army to Support Operational in the Pacific Theater, Implementation, Nationwide.

Summary: EPA does not object to the proposed action. Rating LO.

Final EISs

EIS No. 20070551, ERP No. F-BLM-J02051-UT, Greater Deadman Bench Oil and Gas Producing Region, Proposes to Develop Oil and Gas Resources, Right-of-Way Grants and Applications for Permit to Drill, Vernal, Uintah County, UT.

Summary: EPA continues to have environmental concerns about impacts to the riparian corridor on the Green River. EPA identified the need to improve cumulative impact assessment of air quality in the Uinta Basin.

EIS No. 20080146, ERP No. F-NOA-E91019-00, Amendment 2 to the Consolidated Atlantic Highly Migratory Species Fishery Management Plan, To Implement Management Measures that Prevent Overfishing and Rebuild Overfished Stocks, Implementation, Exclusive Economic Zone (EEZ) of the Atlantic Ocean, Gulf of Mexico and Caribbean Sea.

Summary: EPA does not object to the proposed action.

EIS No. 20080168, ERP No. F-AFS-L65500-AK, Iyouktug Timber Sales, Proposes Harvesting Timber, Implementation, Hoonah Ranger District, Tongass National Forest, Hoonah, AK.

Summary: EPA continues to have environmental concerns about impacts to water quality and wetlands.

EIS No. 20080176, ERP No. F-AFS-K65304-CA, North 49 Forest Health Recovery Project, Restore Fire Adapted Forest System, Located in the Red (MA-16) and Logan (MA-45) Management Areas, Hat Creek Ranger District, Lassen National Forest, Shasta County, CA.

Summary: EPA continues to have environmental concerns about cumulative effects and the continued deferral of roads issues.

EIS No. 20080188, ERP No. F-IBW-K36148-CA, Programmatic—Tijuana River Flood Control Project, Proposing a Range of Alternatives for Maintenance Activities and Future Improvements, San Diego County, CA.

Summary: EPA does not object to the proposed action.

EIS No. 20080189, ERP No. F-NSA-G06013-NM, Continued Operations of Los Alamos National Laboratory, Proposal to Expand Overall Operational Levels, (DOE/EIS-0380), Site Wide, Los Alamos County, NM.

Summary: No formal comment letter was sent to the preparing agency.

EIS No. 20080207, ERP No. F-USN-E11063-00, Shock Trail of the MESA VERDE (LPD 19), San Antonio (LPD 17) Class Ship designated as the Shock Ship for Proposed Shock Trail, Possible Offshore Locations are Naval Station Norfolk, VA; Naval Station Mayport, FL; and Naval Air Station Pensacola, FL.

Summary: Based on the mitigation and monitoring programs described in the Final EIS, EPA does not object to the proposed action.

EIS No. 20080233, ERP No. F-NOA-E86004-00, South Atlantic Snapper Grouper Fishery, Amendment 14 to Establish Eight Marine Protected Areas in Federal Waters, Implementation, South Atlantic Region.

Summary: EPA does not object to the proposed action.

EIS No. 20080107, ERP No. FS-NOA-A91061-00, Atlantic Mackerel, Squid and Butterfish, Fishery Management Plan, Amendment #9, Implementation, Essential Fish Habitat (EFH), Exclusive Economic Zone (EEZ).

Summary: No formal comment letter was sent to the preparing agency.

EIS No. 20080199, ERP No. FS-BLM-L65462-AK, Northeast National Petroleum Reserve—Alaska Integrated Activity Plan, Updated Information, addressing the need for more Oil and Gas Production through Leasing Lands, Consideration of 4 Alternatives, North Slope Borough, AK.

Summary: EPA's previous concerns have been resolved; therefore, EPA does not object to the preferred alternative.

EIS No. 20080235, ERP No. FS-NOA-L91011-AK, Cook Inlet Beluga Whale Subsistence Harvest Project, Proposes to Implement a Long-Term Harvest Plan and Fulfill the Federal Government's Trust Responsibility, Cook Inlet, AK.

Summary: No formal comment letter was sent to the preparing agency.

Dated: June 30, 2008.
Robert W. Hargrove,
Director, NEPA Compliance Division, Environmental Protection Specialist, Office of Federal Activities.

[FR Doc. E8-15159 Filed 7-2-08; 8:45 am]

BILLING CODE 6560-50-P